DEPARTMENT OF COMMERCE

National Oceanic and Atmospheric Administration

[I.D. 082100C]

Marine Mammals; File No. 931-1597-00

AGENCY: National Marine Fisheries Service (NMFS), National Oceanic and Atmospheric Administration (NOAA), Commerce.

ACTION: Receipt of application for permit.

SUMMARY: Notice is hereby given that SPAWARSYSCEN- San Diego [U.S. Navy], Code D3503, 49620 Beluga Road, San Diego, California 92152-6506, has requested a scientific research Permit No. 931-1597-00.

DATES: Written or telefaxed comments must be received on or before September 28, 2000.

ADDRESSES: (See SUPPLEMENTARY INFORMATION).

FOR FURTHER INFORMATION CONTACT: Jill Lewandowski, 301/713-2289.

SUPPLEMENTARY INFORMATION: The permit application No. 931-1597-00 is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

The applicant requests authorization to conduct audiometric and sonocular testing on 48 species of stranded and entrapped cetaceans to determine their acoustic sensitivities and vestibular responses. The proposed research will take place in U.S. and International waters over a five year period.

The applicant requests a maximum of 15 takes for each species. Takes include close approach, direct animal handling, acoustic studies, and tissue collection and import. All age, sex and reproductive classes will be sampled except for pregnant and/or lactating individuals. The applicant also requests authorization to administer medical care in coordination with local stranding networks.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Documents may be reviewed in the following locations:

Permits and Documentation Division, Office of Protected Resources, NMFS, 1315 East-West Highway, Room 13705, Silver Spring, MD 20910 (301/713-2289);

Regional Administrator, Alaska Region, NMFS, 709 West 9th Street, 4th Floor, Juneau, Alaska 99801, (907/586-7221);

Regional Administrator, Northeast Region, NMFS, One Blackburn Drive, Gloucester, Massachusetts 01930, (978/281-9138);

Regional Administrator, Southeast Region, NMFS, 9721 Executive Center Drive, St. Petersburg, Florida 33702-2432, (727/570-5312);

Regional Administrator, Northwest Region, NMFS, 7600 Sand Point Way NE, Bin C15700, Building 1, Seattle, Washington 98115-0070, (206/526-6150);

Regional Administrator, Southwest Region, NMFS, 501 West Ocean Boulevard, Long Beach, California 90802-4213, (562/980-4000); and

Protected Species Coordinator, Pacific Islands Area Office, NMFS, 1601 Kapiolani Boulevard, Suite 1110, Honolulu, Hawaii 96814-4700, (808/973-2937).

Dated: August 24, 2000.
Ann D. Terbush,
Chief, Permits and Documentation Division, Office of Protected Resources, National Marine Fisheries Service.

[FR Doc. 00-22062 Filed 8-28-00; 8:45 am]

Billing Code: 3510-22 -S